DEPARTMENT OF DEFENSE

Office of the Secretary

[Transmittal No. 25-34]

Arms Sales Notification

AGENCY: Defense Security Cooperation Agency, Department of Defense (DoD).

ACTION: Arms sales notice.

SUMMARY: The DoD is publishing the unclassified text of an arms sales notification.

FOR FURTHER INFORMATION CONTACT: Urooj Zahra at (703) 695-6233, urooj.zahra.civ@mail.mil, or dsca.ncr.rsrcmgmt.list.cns-mbx@mail.mil.

SUPPLEMENTARY INFORMATION: This 36(b) arms sales notification is published to fulfill the requirements of section 155 of Public Law 104-164 dated July 21, 1996. The following is a copy of a letter to the Speaker of the House of Representatives with attached Transmittal 25-34, Policy Justification, and Sensitivity of Technology.

Dated: January 29, 2026.
Stephanie J. Bost,
Alternate OSD Federal Register Liaison Officer, Department of Defense.

BILLING CODE 6001-FR-P

BILLING CODE 6001-FR-C

Transmittal No. 25-34

Notice of Proposed Issuance of Letter of Offer Pursuant to Section 36(b)(1) of the Arms Export Control Act, as amended

(i) Prospective Purchaser: Government of Israel

(ii) Total Estimated Value:

Major Defense Equipment * | $1.90 billion
Other | $ .14 billion
TOTAL | $2.04 billion

Funding Source: Foreign Military Financing and National Funds

(iii) Description and Quantity or Quantities of Articles or Services under Consideration for Purchase:

Major Defense Equipment (MDE):

Thirty-five thousand five hundred twenty-nine (35,529) MK 84 or BLU-117 General Purpose (GP) bomb bodies, or a combination of both

Four thousand (4,000) I-2000 Penetrator warheads

Non-MDE:

The following non-MDE items will also be included: spare parts, consumables, accessories, and repair and return support; transportation support; United States (U.S.) Government and contractor engineering, technical, and logistics support services; and other related elements of logistics and program support.

(iv) Military Department: Air Force (IS-D-ADC, IS-D-AHA)

(v) Prior Related Cases, if any: IS-D-ABX, IS-D-ACA, IS-D-QFZ

(vi) Sales Commission, Fee, etc., Paid, Offered, or Agreed to be Paid: None known at this time

(vii) Sensitivity of Technology Contained in the Defense Article or Defense Services Proposed to be Sold: See Attached Annex

(viii) Date Report Delivered to Congress: February 28, 2025

* as defined in Section 47(6) of the Arms Export Control Act.

POLICY JUSTIFICATION

Israel—Munitions and Munitions Support

The Government of Israel has requested to buy thirty-five thousand five hundred twenty-nine (35,529) MK 84 or BLU-117 General Purpose (GP) bomb bodies, or a combination of both; and four thousand (4,000) I-2000 Penetrator warheads. The following non-MDE items will also be included: spare parts, consumables, accessories, and repair and return support; transportation support; U.S. Government and contractor engineering, technical, and logistics support services; and other related elements of logistics and program support. The estimated total cost is $2.04 billion.

The Secretary of State has determined and provided detailed justification that an emergency exists that requires the immediate sale to the Government of Israel of the above defense articles (and defense services) in the national security interests of the U.S., thereby waiving the Congressional review requirements under Section 36(b) of the Arms Export Control Act, as amended.

The U.S. is committed to the security of Israel, and it is vital to U.S. national interests to assist Israel to develop and maintain a strong and ready self-defense capability. This proposed sale is consistent with those objectives.

The proposed sale will improve Israel's capability to meet current and future threats, strengthen its homeland defense, and serve as a deterrent to regional threats. Israel will have no difficulty absorbing this equipment into its armed forces.

The proposed sale of this equipment and support will not alter the basic military balance in the region.

The prime contractors will be General Dynamics, located in Garland, TX; Ellwood National Forge Company, located in Irvine, PA; and McAlester Army Ammunition Plant, located in McAlester, OK. There is a possibility that a portion of this procurement will come from U.S. stock. At this time, the U.S. Government is not aware of any offset agreement proposed in connection with this potential sale. Any offset agreement will be defined in negotiations between the purchaser and the contractor.

Implementation of this proposed sale will not require the assignment of any additional U.S. Government or contractor representatives to Israel.

There will be no adverse impact on U.S. defense readiness as a result of this proposed sale.

Transmittal No. 25-34

Notice of Proposed Issuance of Letter of Offer Pursuant to Section 36(b)(1) of the Arms Export Control Act

Annex

Item No. vii

(vii) Sensitivity of Technology:

1. The MK 84 General Purpose (GP) bomb is a 2,000-pound, free-fall, unguided, low-drag weapon. The MK-84 is designed for soft, fragment sensitive targets and is not intended for hard targets or penetrations. The explosive filling is usually tritonal, though other compositions have sometimes been used.

2. The BLU-109 bomb is a 2,000-pound, free-fall, unguided, low-drag, hard target penetration warhead designed to penetrate hardened structures before detonating.

3. The BLU-117 GP bomb is a 2,000-pound, free-fall, unguided, high and low-drag weapon equivalent to the MK-84 but slightly differs in explosive filler or manufacturer details.

4. The highest level of classification of defense articles, components, and services included in this potential sale is SECRET.

5. If a technologically advanced adversary were to obtain knowledge of the specific hardware and software elements, the information could be used to develop countermeasures that might reduce system effectiveness or be used in the development of a system with similar or advanced capabilities.

6. A determination has been made that Israel can provide substantially the same degree of protection for the sensitive technology being released as the U.S. Government. This sale is necessary in furtherance of the U.S. foreign policy and national security objectives outlined in the Policy Justification.

7. All defense articles and services listed in this transmittal have been authorized for release and export to the Government of Israel.

[FR Doc. 2026-02077 Filed 1-30-26; 8:45 am]

BILLING CODE 6001-FR-P